DEPARTMENT OF THE INTERIOR

Fish and Wildlife Service

[FWS-R8-R-2010-N169; 80230-1265-0000-S3]

Sonny Bono Salton Sea National Wildlife Refuge Complex (Sonny Bono Salton Sea National Wildlife Refuge and Coachella Valley National Wildlife Refuge), Imperial and Riverside Counties, CA

AGENCY: Fish and Wildlife Service, Interior.

ACTION: Notice of intent to prepare a comprehensive conservation plan and environmental assessment; request for comments.

SUMMARY: We, the U.S. Fish and Wildlife Service (Service), intend to prepare a Comprehensive Conservation Plan (CCP) and Environmental Assessment (EA) for the Sonny Bono Salton Sea National Wildlife Refuge (NWR) Complex, which consists of the Sonny Bono Salton Sea NWR located in Imperial County, California, and the Coachella Valley NWR located in Riverside County, California. We provide this notice in compliance with our CCP policy to advise other Federal and State agencies, Tribes, and the public of our intentions, and to obtain suggestions and information on the scope of issues to consider in the planning process.

DATES: To ensure consideration, we must receive your written comments by November 12, 2010.

ADDRESSES: Send your comments or requests for more information by any of the following methods.

E-mail: Victoria_Touchstone@fws.gov. Include “Sonny Bono Salton Sea CCP” in the subject line of the message.

Fax: Attn: Victoria Touchstone, (760) 930-0256.

U.S. Mail: Victoria Touchstone, U.S. Fish and Wildlife Service, San Diego NWRC, 6010 Hidden Valley Road, Suite 101, Carlsbad, CA 92011.

In-Person Drop-off: You may drop off comments at the Sonny Bono Salton Sea NWR Office between 8 a.m. to 3 p.m.; please call (760) 348-5278 for directions.

FOR FURTHER INFORMATION CONTACT: Victoria Touchstone, Refuge Planner, at 760-431-9440, extension 349, or Chris Schoneman, Project Leader, at 760-348-5278. Further information may also be found at http://www.fws.gov/saltonsea/.

SUPPLEMENTARY INFORMATION:

Introduction

With this notice, we initiate our process for developing a CCP for the Sonny Bono Salton Sea NWR Complex, including the Sonny Bono Salton Sea NWR in Imperial County, CA, and the Coachella Valley NWR in Riverside County, CA. This notice complies with our CCP policy to (1) Advise other Federal and State agencies, Tribes, and the public of our intention to conduct detailed planning on this refuge complex, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We intend to review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals, objectives, and strategies that will ensure the best possible approach to wildlife, plant, and habitat conservation, while providing for wildlife-dependent recreation opportunities that are compatible with each refuge's establishing purposes and the mission of the National Wildlife Refuge System.

Our CCP process provides opportunities for participation by Tribal, State, and local governments; agencies; organizations; and the public. We will be contacting identified stakeholders and individuals at this time for initial input. If you would like to meet with planning staff or would like to receive periodic updates, please contact us (see ADDRESSES section). We anticipate holding public meetings for initial comments and when alternative management scenarios have been identified. At this time we encourage comments in the form of issues, concerns, ideas, and suggestions for the future management of the Sonny Bono Salton Sea NWR and the Coachella Valley NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Sonny Bono Salton Sea National Wildlife Refuge Complex

The Sonny Bono Salton Sea NWR Complex consists of the Sonny Bono Salton Sea NWR and the Coachella Valley NWR. The Sonny Bono Salton Sea NWR was established as a 32,766-acre sanctuary and breeding ground for birds and other wildlife in 1930 (Executive Order 5498). Additional leased lands have been added to the Refuge under the authorities of the Migratory Bird Conservation Act (16 U.S.C. 715d), “for use as an inviolate sanctuary, or for any other management propose, for migratory birds” and the Lea Act (16 U.S.C. 695), “for the management and control of migratory waterfowl, and other wildlife.” Today, with the original Refuge lands covered by the waters of the Salton Sea, management activities are focused on about 2,000 acres of primarily leased land. Approximately 920 acres consist of managed wetlands that support resident and migratory birds, and another 940 acres are farmed to provide forage for wintering geese and other migratory birds. Existing public uses include wildlife observation, photography, interpretation, environmental education, waterfowl hunting, and scientific research.

The Coachella Valley NWR was established in 1985 under the authorities of the Endangered Species Act of 1973 (16 U.S.C. 1534), “to conserve (A) fish or wildlife which are listed as endangered species or threatened species or (B) plants.” The 3,709-acre Refuge, which is part of the larger Coachella Valley Preserve, protects the federally listed endangered Coachella Valley milk-vetch (Astragalus lentiginosus var. coachellae) and threatened Coachella Valley fringe-toed lizard (Uma inornata), as well as other desert-dwelling species adapted to living in the sand dune habitat of the Coachella Valley. Access onto the Refuge is limited to a designated corridor for hiking and equestrian use.

Scoping: Preliminary Issues, Concerns, and Opportunities

We have identified preliminary issues, concerns, and opportunities for each Refuge that we may address in the CCP. Additional issues, concerns, and opportunities may be identified as a result of public scoping. For the Sonny Bono Salton Sea NWR, preliminary issues include: Increasing the productivity of existing managed wetlands to support migratory waterfowl; adapting to changing conditions associated with a shrinking Salton Sea (e.g., conversion of habitat types, dust management, degraded water quality); predation in seabird nesting areas; availability of adequate nesting habitat for seabirds, particularly gull-billed terns (Gelochelidon nilotica vanrossemi); and the effects of climate change on Refuge resources.

For the Coachella Valley NWR, these issues include: Habitat and species management; control of invasive weedy species; effects of windblown sand on adjacent properties; public use; and impacts to Refuge resources as a result of illegal motorized vehicle activity.

Public Meetings

We will give the public an opportunity to provide input at a public meeting (or meetings) to be held in September 2010. You can obtain the schedule from the Refuge Planner or Project Leader (see FOR FURTHER INFORMATION CONTACT). You may also submit comments or request a meeting during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 19, 2010.
Tom McCabe,
Regional Director, Pacific Southwest Region, Sacramento, California.

[FR Doc. 2010-22731 Filed 9-10-10; 8:45 am]

BILLING CODE 4310-55-P